DEPARTMENT OF HEALTH AND HUMAN SERVICES

Substance Abuse and Mental Health Services Administration

Center for Substance Abuse Treatment; Notice of Meeting

Pursuant to Public Law 92-463, notice is hereby given of the meeting of the Center for Substance Abuse Treatment (CSAT) National Advisory Council on February 28 and March 1, 2007.

The meeting is open and will include discussion of the Center's policy issues, and current administrative, legislative, and program developments.

Attendance by the public will be limited to space available. Public comments are welcome. Please communicate with the CSAT Council Executive Secretary, Ms. Cynthia Graham (see contact information below), to make arrangements to comment or to request special accommodations for persons with disabilities.

Substantive program information and a roster of Council members may be obtained by accessing the SAMHSA Advisory Council Web site (http://www.samhsa.gov) after the meeting or by communicating with the contact individual. The meeting transcript will also be available on the SAMHSA Advisory Council Web site three weeks after the meeting.

Committee Name: Substance Abuse and Mental Health Services Administration Center for Substance Abuse Treatment National Advisory Council.

Meeting Dates: February 28: 9 a.m.-4 p.m.—March 1: 9 a.m.-1 p.m.

Place: 1 Choke Cherry Road, Sugar Loaf and Seneca Conference Rooms, Rockville, Maryland 20857.

Type: Open: February 28: 9 a.m.-4 p.m.—Open: March 1: 9 a.m.-1 p.m.

Contact: Cynthia Graham, M.S., Executive Secretary, SAMHSA/CSAT National Advisory Council, 1 Choke Cherry Road, Room 5-1036, Rockville, MD 20857, Telephone: (240) 276-1692, FAX: (240) 276-1690, E-mail: cynthia.graham@samhsa.hhs.gov.

Dated: February 1, 2007.
Toian Vaughn,
Committee Management Officer, Substance Abuse and Mental Health Services Administration.

[FR Doc. E7-2079 Filed 2-7-07; 8:45 am]

BILLING CODE 4162-20-P